DEPARTMENT OF JUSTICE

[OMB Number 1105-NEW]

National Drug Intelligence Center; Agency Information Collection Activities: New Collection; Comments Requested

ACTION: 60-Day Notice of Information Collection Under Review: New Collection SENTRY/Emerging Drug Tracking System

The United States Department of Justice (DOJ), National Drug Intelligence Center (NDIC), will be submitting the following information collection request to the Office of Management and Budget (OMB) for review and approval in accordance with the Paperwork Reduction Act of 1995. The proposed information collection is published to obtain comments from the public and affected agencies. Comments are encouraged and will be accepted for “sixty days” until June 26, 2007. This process is conducted in accordance with 5 CFR 1320.10.

If you have comments especially on the estimated public burden or associated response time, suggestions, or need a copy of the proposed information collection instrument with instructions or additional information, please contact Thomas Padden, Chief Counsel, National Drug Intelligence Center, Fifth Floor, 319 Washington Street, Johnstown, PA 15901.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: New Collection.

(2) Title of the Form/Collection: SENTRY/Emerging Drug Tracking System, a drug early warning and response system.

(3) Agency form number, if any, and the applicable component of the Department of Justice sponsoring the collection: Not Applicable.

(4) The 2004 National Synthetic Drugs Action Plan designated NDIC the lead agency for developing an early warning and response system. This instrument is critical for NDIC to detect emerging drug abuse and production trends and thereafter notify law enforcement demand authorities and prepared associated reports. Respondents will be authorized state and local law enforcement officers, and treatment/education/medical service providers.

(5) An estimate of the total number of respondents and the amount of time estimated for an average respondent to respond: It is estimated that during the first year 300 respondents will submit a tip requiring approximately 15 minutes. Use of the system is expected to increase significantly.

(6) An estimate of the total public burden (in hours) associated with the collection: There are an estimated 75 total annual burden hours associated with this collection.

If additional information is required contact: Ms. Lynn Bryant, Department Clearance Officer, United States Department of Justice, Justice Management Division, Policy and Planning Staff, Patrick Henry Building, Suite 1600, 601 D Street, NW., Washington, DC 20530.

Dated: April 23, 2007.
Lynn Bryant,
Department Clearance Officer, PRA, Department of Justice.

[FR Doc. E7-8086 Filed 4-26-07; 8:45 am]

BILLING CODE 4410-DC-P